EQUAL EMPLOYMENT OPPORTUNITY COMMISSION

Notice: Sunshine Meeting

Federal Register Citation of Previous Announcement: 74 FR 7893, Friday, February 20, 2009.

Previously Announced Time and Date of Meeting: Wednesday, February 25, 2009, 10 a.m. Eastern Time.

Change in the Meeting: A Closed Session has been added, directly following the open session.

Matters To Be Considered

Closed Session

Litigation Recommendation: Amicus Curiae Recommendation.

Contact Person for More Information: Stephen Llewellyn, Executive Officer on (202) 663-4070.

This notice issued February 25, 2009.
Stephen Llewellyn,
Executive Officer, Executive Secretariat.

[FR Doc. E9-4369 Filed 2-25-09; 4:15 pm]

BILLING CODE 6570-01-P